DEPARTMENT OF ENERGY

Federal Energy Regulatory Commission

[Docket No. EL07-46-000]

Morgan Stanley Capital Group Inc., Barclays Bank, Plc; Notice of Petition for Declaratory Order

March 20, 2007.

Take notice that on March 15, 2007, Morgan Stanley Capital Group Inc. and Barclays Bank, Plc (collectively “Petitioners”) filed a petition of declaratory order concerning delivery obligations under certain wholesale power contracts in markets operated by Midwest Independent Transmission System Operator, Inc. (“MISO”) and PJM Interconnection, LLC (“PJM”). The Petitioners request the Commission to intervene as it has done in other markets that have transitioned to Locational Marginal Pricing (“LMP”) or nodal pricing and resolve issues concerning the parties’ delivery obligations under so-called “Seller's Choice” contracts. The requested determination is needed in light of the subsequent introduction of LMP into the MISO market and the integration of the former Alliance RTO Companies into the nodal pricing-based PJM market.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 16, 2007.

Philis J. Posey,
Acting Secretary.

[FR Doc. E7-5456 Filed 3-23-07; 8:45 am]

BILLING CODE 6717-01-P